DEPARTMENT OF TRANSPORTATION

Federal Aviation Administration

Notice of Availability of the Final Environmental Impact Statement (Final EIS) and the ANILCA Section 810 Analysis of Impacts to Subsistence Resources for Proposed Improvement Activities at the Sitka Rocky Gutierrez Airport, Sitka, AK

AGENCY: Federal Aviation Administration (FAA), Department of Transportation (DOT). The Bureau of Land Management (BLM), U.S. Army Corps of Engineers (USACE), and National Marine Fisheries Services (NMFS) are cooperating agencies, by virtue of their jurisdictional authority and/or resource management responsibilities.

ACTION: Notice of availability.

SUMMARY: In accordance with the National Environmental Policy Act of 1969 (NEPA, 42 U.S.C. 4321 et seq.) and Council on Environmental Quality regulations (40 CFR part 1500-1508) the Federal Aviation Administration is issuing this notice to advise the public that the Final ElS for Proposed Improvement Activities at the Sitka Rocky Gutierrez Airport (SIT) has been prepared and is available for public review. Written requests for copies of the Final EIS can be submitted to the individual listed in the section, FOR FURTHER INFORMATION CONTACT.

Final EIS Availability and Review

Copies of the Final EIS may be viewed during regular business hours at the following locations:

1. Federal Aviation Administration, Airports Division, 222 W. 7th Avenue #14, Anchorage, AK 99513-7504. (907) 271-5454 or (907) 271-5438.

2. Kettleson Memorial Library, 320 Harbor Drive, Sitka, AK 99835. (907) 747-8708.

3. Alaska Department of Transportation and Public Facilities, 6860 Glacier Highway, Juneau, AK 99811.

4. Downtown Juneau Public Library, 292 Marine Way, Juneau, AK 99801. (907) 586-5249.

The Federal Aviation Administration, Airports Division has a limited number of CDs of the entire Final EIS and the Executive Summary available for public distribution. Please contact the Federal Aviation Administration at (907) 271-5438 for a copy.

SUPPLEMENTARY INFORMATION: The Sitka Rocky Gutierrez Airport Master Plan outlined development goals and projects that are anticipated to be necessary over the next 20 or more years at the Airport. This Final EIS discusses the proposed improvements recommended at the Airport over the next five years, which have the potential to result in significant adverse environmental impacts. The FAA and the State of Alaska Department of Transportation and Public Facilities (DOT & PF) propose the following projects recommended over the next five years at the Airport to meet the identified needs. The major actions assessed in this Final EIS include:

☐ Improvements to the Runway Safety Area.

☐ Extension of the Parallel Taxiway.

☐ Relocation of the Airport Seaplane Pullout.

☐ Installation of an Approach Lighting System.

☐ Repairs and Improvements to the Airport Seawall.

☐ Acquisition of Sufficient Property Rights to Lands Needed for Existing and Future Aviation and Airport Uses.

The proposed Airport improvements would be completed during the 2010-2015 time period and, depending on the alternatives implemented, may result in temporary or long-term impacts to the coastal resources, marine environment and wildlife (including species protected under the Endangered Species Act), water quality, wetlands, historical, architectural, archaeological, and cultural resources, terrestrial wildlife and vegetation, and subsistence.

Section 810 of the Alaska National Lands Conservation Act (ANILCA) requires an evaluation on the effects of alternatives presented in this Final EIS on subsistence activities occurring on public lands in the planning area. The evaluation in the Final EIS indicates that none of the alternatives significantly restrict subsistence activities.

If the transfer of title option is selected for the acquisition of property rights, the lands would change from Federal to State ownership. This would result in the loss of Federal subsistence regulations applying on those lands and the irreversible loss of opportunities for a subsistence priority for rural residents from loss of Federal public lands. A long-term lease or easement would preserve opportunities for a subsistence priority for rural residents by retaining Federal ownership of public lands.

The FAA conducted a public hearing on the Draft EIS October 2, 2008 and received comments on the Draft EIS through October 14, 2008. The FAA has reviewed and responded to the comments received during the Draft EIS comment period and made revisions to the EIS as appropriate.

FOR FURTHER INFORMATION CONTACT: Patricia Sullivan. Environmental Specialist, Federal Aviation Administration, Alaskan Region, Airports Division, 222 W. 7th Avenue #14, Anchorage, AK 99513-7504. Ms. Sullivan may be contacted during business hours at (907) 271-5454 (phone) and (907) 271-2851 (facsimile).

Issued in Anchorage, Alaska on May 14, 2009.
Byron K. Huffman,
Mananger, Airports Division, Alaskan Region.

[FR Doc. E9-11764 Filed 5-20-09; 8:45 am]

BILLING CODE 4910-13-M